NUCLEAR REGULATORY COMMISSION

[Docket No. 70-113; NRC-2018-0112]

Pennsylvania State University

AGENCY: Nuclear Regulatory Commission.

ACTION: License renewal; issuance.

SUMMARY: The U.S. Nuclear Regulatory Commission (NRC) has issued a renewal of special nuclear materials (SNM) License No. SNM-95 held by the Pennsylvania State University (PSU), University Park, Pennsylvania, to possess and use SNM for education, research, and training programs. The renewed license authorizes PSU to continue to possess and use SNM for an additional 10 years from the date of issuance.

DATES: Renewed License SNM-95 was issued on April 24, 2018.

ADDRESSES: Please refer to Docket ID NRC-2018-0112 when contacting the NRC about the availability of information regarding this document. You may obtain publicly available information related to this document using any of the following methods:

• Federal Rulemaking Website: Go to http://www.regulations.gov and search for Docket ID NRC-2018-0112. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Merritt N. Baker, Office of Nuclear Material Safety and Safeguards, U.S. Nuclear Regulatory Commission, Washington, DC 20555-0001; telephone: 301-415-7119; email: Merritt.Baker@nrc.gov.

SUPPLEMENTARY INFORMATION:

I. Discussion

Pursuant to section 2.106 of title 10 of the Code of Federal Regulations (10 CFR), the NRC is providing notice of the issuance of renewal of License SNM-95 to PSU, which authorizes PSU to possess and use SNM for education, research, and training programs at its campus in University Park, Pennsylvania. This licensee's original request for renewal of its license was made on September 23, 2013 (ADAMS Accession No. ML13273A207). Because the licensed material will be used for research, development, and for educational purposes, renewal of License SNM-95 is an action that is categorically excluded from a requirement to prepare an environmental assessment or environmental impact statement, pursuant to 10 CFR 51.22(c)(14)(v). A notice of receipt of the license renewal application with an opportunity to request a hearing and petition for leave to intervene was published in the Federal Register on February 2, 2015 (80 FR 5580). The NRC did not receive a request for a hearing or for a petition for leave to intervene. This license renewal complies with the standards and requirements of the Atomic Energy Act of 1954, as amended, and the NRC's rules and regulations as set forth in 10 CFR chapter 1. Accordingly, the license renewal was issued on April 24, 2018, and was effective immediately.

The NRC prepared a safety evaluation report for the renewal of License SNM-95 and concluded that the licensee can continue to operate the facility without endangering the health and safety of the public.

II. Availability of Documents

The documents identified in the following table are available to interested persons through ADAMS accession numbers as indicated.

Document | ADAMS accession No.
Penn State Request for Renewal Application | ML13273A207
Penn State Resubmitted Renewal Application | ML14219A483
NRC Request for Additional Information | ML15183A349
PSU Response to Request for Additional Information | ML15224A545
Transmittal of PSU License Renewal (SNM-95) | ML16336A260
Safety Evaluation Report for PSU License Renewal | ML16336A226
SNM-95 Penn State Materials License | ML16336A223

Dated at Rockville, Maryland, this 20th day of June 2018.
For the Nuclear Regulatory Commission.
Craig G. Erlanger,
Director, Division of Fuel Cycle Safety, Safeguards, and Environmental Review, Office of Nuclear Material Safety and Safeguards.

[FR Doc. 2018-13547 Filed 6-22-18; 8:45 am]

BILLING CODE 7590-01-P